NUCLEAR REGULATORY COMMISSION

[Docket No. 52-039; NRC-2008-0603]

Talen Energy Combined License Application for Bell Bend Nuclear Power Plant

AGENCY: Nuclear Regulatory Commission.

ACTION: Application for combined license; withdrawal.

SUMMARY: The U.S. Nuclear Regulatory Commission (NRC) is granting the Talen Energy request to withdraw its application for a combined license (COL) for the Bell Bend Nuclear Power Plant (BBNPP). This new reactor would be identified as the BBNPP located adjacent to the existing Susquehanna Steam Electric Station in Luzerne County, Pennsylvania.

DATES: The effective date of the withdrawal is September 22, 2016.

ADDRESSES: Please refer to Docket ID NRC-2008-0603 when contacting the NRC about the availability of information regarding this document. You may obtain publicly-available information related to this document using any of the following methods:

• Federal Rulemaking Web site: Go to http://www.regulations.gov and search for Docket ID NRC-2008-0603. Address questions about NRC dockets to Carol Gallagher; telephone: 301-415-3463; email: Carol.Gallagher@nrc.gov. For technical questions, contact the individual listed in the FOR FURTHER INFORMATION CONTACT section of this document.

• NRC's Agencywide Documents Access and Management System (ADAMS): You may obtain publicly available documents online in the ADAMS Public Documents collection at http://www.nrc.gov/reading-rm/adams.html. To begin the search, select “ADAMS Public Documents,” and then select “Begin Web-based ADAMS Search.” For problems with ADAMS, please contact the NRC's Public Document Room (PDR) reference staff at 1-800-397-4209, 301-415-4737, or by email to pdr.resource@nrc.gov. The ADAMS accession number for each document referenced (if that document is available in ADAMS) is provided the first time that a document is referenced.

• NRC's PDR: You may examine and purchase copies of public documents at the NRC's PDR, Room O1-F21, One White Flint North, 11555 Rockville Pike, Rockville, Maryland 20852.

FOR FURTHER INFORMATION CONTACT: Tomeka Terry, Office of New Reactors, U.S. Nuclear Regulatory Commission, Washington DC 20555-0001; telephone: 301-415-1488, email: Tomeka.Terry@nrc.gov.

SUPPLEMENTARY INFORMATION: By letter dated October 10, 2008 (ADAMS Accession No. ML082880580), as supplemented by letters, dated November 18, 2008 and November 24, 2008 (ADAMS Accession Nos. ML083250485 and ML083330405) and December 1, 2008 and December 8, 2008 (ADAMS Accession No. ML083400289 and ML083510577), Talen Energy (formerly PPL Bell Bend, LLC), submitted an application to the NRC for a COL for a single unit of the U.S. Evolutionary Power Reactor in accordance with the requirements contained in part 52 of title 10 of the Code of Federal Regulations (10 CFR), “Licenses, Certifications, and Approvals for Nuclear Power Plants.” This new reactor was identified as BBNPP located adjacent to the existing Susquehanna Steam Electric Station in Luzerne County, Pennsylvania.

A notice acknowledging receipt and availability of the Talen Energy's COL application was published in the Federal Register on November 13, 2008 (73 FR 67214). Subsequently, a notice announcing the acceptance for docketing of the BBNPP COL application in accordance with 10 CFR part 2, “Agency Rules of Practice and Procedure,” and 10 CFR part 52 was published in the Federal Register on December 29, 2008 (73 FR 79519). The docket number established for this application was 52-039.

By letter dated January 9, 2014 (ADAMS Accession No. ML14030A074), Talen Energy requested that the NRC suspend the safety review portion of the COL application until further notice, and continue to focus its support on the necessary work leading to the issuance of the final environmental impact statement (FEIS). The NRC staff issued the FEIS, NUREG-2179, “Environmental Impact Statement for a Combined License (COL) for Bell Bend Nuclear Power Plant, Final Report,” on April 21, 2016 (ADAMS Accession No. ML16075A311). The NRC granted the requested suspension by letter dated August 12, 2014 (ADAMS Accession No. ML14210A588).

By its recent letter dated August 30, 2016 (ADAMS Accession No. ML16252A202), Talen Energy requested withdrawal of its BBNPP COL application, including the Safeguards/Security part of the application. Pursuant to the requirements in 10 CFR part 2, the Commission has granted Talen Energy its request to withdraw the BBNPP COL application.

Dated at Rockville, Maryland, this 22nd day of September 2016.
For the Nuclear Regulatory Commission.
Francis M. Akstulewicz,
Director, Division of New Reactor Licensing, Office of New Reactors.

[FR Doc. 2016-23556 Filed 9-28-16; 8:45 am]

BILLING CODE 7590-01-P